DEPARTMENT OF COMMERCE

International Trade Administration

[A-570-901]

Certain Lined Paper Products From the People's Republic of China: Notice of Rescission of Antidumping Duty Administrative Review

AGENCY: Enforcement and Compliance, International Trade Administration, Department of Commerce.

DATES: Effective Date: December 23, 2014.

FOR FURTHER INFORMATION CONTACT: Stephanie Moore or Cindy Robinson AD/CVD Operations, Office III, Enforcement and Compliance, International Trade Administration, U.S. Department of Commerce, 14th Street and Constitution Avenue NW., Washington, DC 20230; telephone: (202) 482-3692 or (202) 482-3797, respectively.

SUPPLEMENTARY INFORMATION:

Background

On September 2, 2014, the Department of Commerce (the Department) published a notice of opportunity to request an administrative review of the antidumping duty order on certain lined paper products from the People's Republic of China.¹ Pursuant to a request from the Association of American School Paper Suppliers and its individual members (petitioners),² the Department published in the Federal Register the notice of initiation of this antidumping duty administrative review with respect to Shanghai Lian Li Paper Products Co., Ltd. (Shanghai Lian Li) for the period September 1, 2013, through August 31, 2014.

¹ See Antidumping or Countervailing Duty Order, Finding, or Suspended Investigation; Opportunity To Request Administrative Review, 79 FR 51958 (September 2, 2014).

² The individual members are ACCO Brands USA LLC; Norcom, Inc.; and Top Flight, Inc.

On October 30, 2014, the Department published the Notice of Initiation.³ On November 24, 2014, Petitioners timely withdrew their request for administrative review of the antidumping duty order with respect to Shanghai Lian Li.

³ See Initiation of Antidumping and Countervailing Duty Administrative Reviews, 79 FR 64565 (October 30, 2014) (Initiation).

Rescission of the 2013-2014 Administrative Review

Pursuant to 19 CFR 351.213(d)(1), the Secretary will rescind an administrative review, in whole or in part, if the parties that requested a review withdraw the request within 90 days of the date of publication of the notice of initiation of the requested review. The instant review was initiated on October 30, 2014.⁴ Petitioners withdrew their request for a review on November 24, 2014, which is within the 90-day deadline. No other party requested an administrative review of this segment of the proceeding. Therefore, in accordance with 19 CFR 351.213(d)(1), we are rescinding this review of the antidumping duty order on certain lined paper products from the People's Republic of China.

⁴ See id.

Assessment

Antidumping duties shall be assessed at rates equal to the cash deposit of estimated antidumping duties required at the time of entry, or withdrawal from warehouse, for consumption, during the period September 1, 2013, through August 31, 2014.

The Department intends to issue appropriate assessment instructions directly to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent increase in the amount of antidumping duties reimbursed.

Notification Regarding Administrative Protective Order

This notice serves as a final reminder to parties subject to administrative protective orders (APOs) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: December 15, 2014.
Christian Marsh,
Deputy Assistant Secretary for Antidumping and Countervailing Duty Operations.

[FR Doc. 2014-29783 Filed 12-22-14; 8:45 am]

BILLING CODE 3510-DS-P